DEPARTMENT OF EDUCATION

[CFDA No.: 84.304A]

Office of Educational Research and Improvement, International Education Exchange Program; Notice

Action: Notice inviting applications for new awards for fiscal year (FY) 2001.

Purpose of Program

To support international education exchange activities between the United States and eligible countries in civics and government education and economic education.

For FY 2001 the competition for new awards focuses on projects designed to meet the priorities referenced in the Priorities section of this notice.

Eligible Applicants

Independent nonprofit educational organizations that—

(a) Have expertise in international achievement comparisons, and are experienced in—

(1) The development and national implementation of curricular programs in civics and government education and economic education for students from grades kindergarten through 12 in local, intermediate, and State educational agencies, in schools funded by the Bureau of Indian Affairs, and in private schools throughout the Nation with the cooperation and assistance of national professional educational organizations, colleges and universities and private sector organizations;

(2) The development and implementation of cooperative university and school-based inservice training programs for teachers of grades kindergarten through 12 using scholars from such relevant disciplines as political science, political philosophy, history, law, and economics;

(3) The development of model curricular frameworks in civics and government education and economic education;

(4) The administration of international seminars on the goals and objectives of civics and government education or economic education in constitutional democracies (including the sharing of curricular materials) for educational leaders, teacher trainers, scholars in related disciplines, and educational policymakers; and

(5) The evaluation of civics and government education or economic education programs; and

(b) Have authority to subcontract with other organizations to carry out these provisions.

Applications Available: May 7, 2001.

Deadline for Transmittal of Applications: July 9, 2001.

Deadline for Intergovernmental Review: September 10, 2001.

Estimated Available Funds: $8,780,000.

Estimated Range of Awards: $4,190,600 to $4,590,000.

Estimated Average Size of Awards: $4,390,000.

Maximum Award: We will reject any application that proposes a budget exceeding $4,590,000 for a single budget period of 12 months.

Estimated Number of Awards: 2.

Note: The Department is not bound by any estimates in this notice.

Project Period: Up to 12 months.

Applicable Regulations: (a) The Education Department General Administrative Regulations (EDGAR) in 34 CFR parts 74, 75, 77, 79, 81, 82, 85, 86, 97, 98, and 99. (b) The regulations in 34 CFR part 700.

Priorities

This competition focuses on projects designed to carry out the authorized activities listed in Title VI of the Goals 2000: Educate America Act, 20 U.S.C. 5951. Title VI is the International Education Program.

Absolute Priority 1—International Education Exchange Program in Civics and Government Education.

Absolute Priority 2—International Education Exchange Program in Economic Education.

Under 34 CFR 75.105(c)(3) we consider only applications that meet one of these two priorities.

Authorized Activities

To meet one of these two priorities, each applicant must propose to carry out the following activities, in either civics and government education or economic education:

(A) Provide eligible countries with—

(1) Seminars on the basic principles of the United States constitutional democracy and economics, including seminars on the major governmental and economic institutions and systems in the United States, and visits to such institutions;

(2) Visits to school systems, institutions of higher learning, and nonprofit organizations conducting exemplary programs in civics and government education and economic education in the United States;

(3) Home stays in United States communities;

(4) Translation and adaptations regarding the United States civics and government education and economic education curricular programs for students and teachers, and in the case of training programs for teachers translations and adaptations into forms useful in schools in eligible countries, and joint research projects in such areas;

(5) Translation of basic documents of United States constitutional government for use in eligible countries, such as The Federalist Papers, selected writings of Presidents Adams and Jefferson, and the Anti-Federalists, and more recent works on political theory, constitutional law and economics; and

(6) Research and evaluation assistance to determine—

(i) The effects of educational programs on students' development of the knowledge, skills and traits of character essential for the preservation and improvement of constitutional democracy; and

(ii) Effective participation in and the preservation and improvement of an efficient market economy;

(B) Provide United States participants with—

(1) Seminars on the histories, economics, and governments of eligible countries;

(2) Visits to school systems, institutions of higher learning, and organizations conducting exemplary programs in civics and government education and economic education located in eligible countries;

(3) Home stays in eligible countries;

(4) Assistance from educators and scholars in eligible countries in the development of curricular materials on the history, government, and economics of such countries that are useful in United States classrooms;

(5) Opportunities to provide on-site demonstrations of United States curricula and pedagogy for educational leaders in eligible countries; and

(6) Research and evaluation assistance to determine—

(i) The effects of educational programs on students' development of the knowledge, skills and traits of character essential for the preservation and improvement of constitutional democracy; and

(ii) Effective participation in and improvement of an efficient market economy; and

(C) Assist participants from eligible countries and the United States in participating in international conferences on civics and government education and economic education for educational leaders, teacher trainers, scholars in related disciplines and educational policymakers.

The primary participants in the international education program shall be leading educators in the areas of civics and government education and economic education, including curriculum and teacher training specialists, scholars in relevant disciplines, and educational policymakers, from the United States and eligible countries.

Note: For this program, the term “eligible country” means a Central European country, an Eastern European country, Lithuania, Latvia, Estonia, Georgia, the Commonwealth of Independent States, and any country that formerly was a republic of the Soviet Union whose political independence is recognized in the United States.

Selection Criteria

The Secretary selects from the criteria in 34 CFR 700.30(e) to evaluate applications for new grants under this competition. Under 34 CFR 700.30(a), the Secretary will announce in the application package the evaluation criteria selected for this competition and the maximum weight assigned to each criterion.

FOR APPLICATIONS AND FURTHER INFORMATION CONTACT: Dr. Ram N. Singh (email: ram.singh@ed.gov) or Ms. Rita Foy (email: rita.foy@ed.gov), U.S. Department of Education, 555 New Jersey Avenue, NW., room 510, Washington, DC 20208-5573. Telephone: (202) 219-2079.

If you use a telecommunications device for the deaf (TDD), you may call the Federal Information Relay Service (FIRS) at 1-800-877-8339.

Individuals with disabilities may obtain this document in an alternative format (e.g., Braille, large print, audiotape, or computer diskette) on request to either of the program contact persons listed under FOR APPLICATIONS AND FURTHER INFORMATION CONTACT.

Individuals with disabilities may obtain a copy of the application package in an alternative format by contacting either of those persons. However, the Department is not able to reproduce in an alternative format the standard forms included in the application package.

Electronic Access to This Document

You may view this document, as well as all other Department of Education documents published in the Federal Register, in text or Adobe Portable Document Format (PDF) on the Internet at the following site: www.ed.gov/legislation/FedRegister

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

Program Authority: 20 U.S.C. 5951.

Dated: May 3, 2001.
Sue Betka,
Deputy Assistant Secretary for Educational Research and Improvement.

[FR Doc. 01-11617 Filed 5-8-01; 8:45 am]

BILLING CODE 4000-01-U